DEPARTMENT OF AGRICULTURE

Submission for OMB Review; Comment Request

March 15, 2022.

The Department of Agriculture has submitted the following information collection requirement(s) to OMB for review and clearance under the Paperwork Reduction Act of 1995, Public Law 104-13. Comments are requested regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by April 20, 2022 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Economic Research Service

Title: Generic Clearance for Survey Research Studies.

OMB Control Number: 0536-0073.

Summary of Collection: The Economic Research Service (ERS) of the U.S. Department of Agriculture is requesting renewal for a generic clearance that will allow them to conduct research to improve the quality of data collection by developing, testing, and evaluating its survey instruments, methodologies, technology, interview processes, and respondent recruitment protocols. The primary objective of ERS is providing timely research and analysis to public and private decision makers on topics related to agriculture, food, the environment, and rural America. This request is part of an on-going initiative to improve the quality of ERS' data products in general and surveys in specific as recommended by both its own guidelines and those of OMB. Data collection for this collection is authorized by the 7 U.S.C. 2204(a).

Need and Use of the Information: The information collected will be used by staff from the ERS and sponsoring agencies to evaluate and improve the quality of the data in the surveys and censuses that are ultimately conducted. Specifically, the information will be used to reduce respondent burden while simultaneously improving the quality of the data collected in these surveys. This clearance involves one-time questionnaire and/or procedural development activities for each survey that is connected to the clearance. If this project were not carried out, the quality of the data collected in the surveys would suffer.

Description of Respondents: Individuals or households; Business or other for-profit; Not-for-profit institutions; Farms; State, Local or Tribal Government.

Number of Respondents: 3,630.

Frequency of Responses: Reporting: Annually.

Total Burden Hours: 1,815.

Ruth Brown,
Departmental Information Collection Clearance Officer.

[FR Doc. 2022-05846 Filed 3-18-22; 8:45 am]

BILLING CODE 3410-18-P